DEPARTMENT OF COMMERCE

National Oceanic and Atmospheric Administration

RIN 0648-XL85

Notice of Availability of a Final Supplemental Environmental Impact Statement for Replacement of NOAA National Marine Fisheries Service Southwest Fisheries Science Center in La Jolla, CA

AGENCY: National Marine Fisheries Service (NMFS), National Oceanic and Atmospheric Administration (NOAA), Commerce.

ACTION: Notice of availability of the Final Supplemental Environmental Impact Statement (SEIS); Opportunity for comments.

SUMMARY: NOAA announces the public release of the Final SEIS in accordance with the National Environmental Policy Act of 1969, the Council on Environmental Quality Regulations, and NOAA Administrative Order 216-6 Environmental Review Procedures for Implementing the National Environmental Policy Act. Since completion of the Final Environmental Impact Statement/Environmental Impact Report (EIS/EIR) in April of 2009, substantial changes to the proposed action are being considered by NOAA within portions of the project area containing the 2.5-acre property currently occupied by Southwest Fisheries Science Center (SWFSC) and managed by NOAA under long-term lease from the University of California Office of the President (UCOP). These newly proposed actions were not previously analyzed in the Final EIS/EIR and involve additional demolition activities, substantial excavation and grading, installation of a geohazard soil stabilization system, structural upgrade to remaining structures, and other site alterations. These proposed actions were deemed necessary by NOAA based on additional geotechnical information and design recommendations received since approval of the Final EIS/EIR. A Draft and Final SEIS evaluated each environmental topic addressed in the Final EIS/EIR, and focused on the newly proposed action and its potential effects to the human environment. The No-Action Alternative was analyzed and assumes the newly proposed actions would not be implemented. Comments on the Draft SEIS were received during a 45-day public comment period that ended October 31, 2011. The Final SEIS evaluates and responds to these comments. An opportunity to comment on the Final SEIS is provided for 30 days following this Notice of Availability.

DATES: Written comments and input will be accepted on or before June 25, 2012.

ADDRESSES: Written comments should be sent to Robb Gries, Project Engineer, NOAA, Project Planning & Management—Western Region, 7600 Sand Point Way NE., BIN C15700, Seattle, WA 98115; email robb.gries@noaa.gov.

FOR FURTHER INFORMATION CONTACT: Mr. Robb Gries, NOAA Project Engineer, at the address provided above. A copy of the Final SEIS can be viewed or downloaded at http://www.seco.noaa.gov/HTML_Blue/OCAO_NEPA.html

SUPPLEMENTARY INFORMATION: The proposed action evaluated in the April 2009 Final EIS/EIR consisted of the demolition of Buildings B and C and the construction of a new SWFSC building on a property across La Jolla Shores Drive from the existing NMFS facilities. Currently, construction of the SWFSC building at the preferred site is underway. Demolition of Buildings B and C at the existing NOAA property would not occur until construction of the new SWFSC building has been completed.

A Notice of Intent to prepare the SEIS was published in the Federal Register on June 30, 2011, and a Notice of Availability of the Draft SEIS was published in the Federal Register on September 16, 2011. Consistent with 40 CFR 1502.9(c)(1)(i), this SEIS focuses on the environmental effects of the proposed changes and feasible alternatives including the no-action alternative, and analyzes the potential effects to affected resources such as: geological conditions, hydraulic processes, construction noise, traffic/pedestrian circulation, air emissions, and protected wildlife. Separately, the University of California—San Diego (UCSD) and UCOP intend to determine what additional CEQA documentation is necessary, such as an Addendum to the Final EIS/EIR, based on the findings of the SEIS and other factors.

NOAA has submitted the Final SEIS to the U.S. Environmental Protection Agency for review and comment, in conformance with NEPA implementing regulations. Copies of this document have been made available to persons who commented on the Draft SEIS, to other individuals expressing interest, and posted on the NOAA Web page noted above in order to be accessible to the general public. NOAA is accepting comments on the Final SEIS during a minimum 30-day “cooling off” period beginning May 25, 2012, and ending on June 25, 2012.

Dated: May 14, 2012.
Edward Horton,
Chief Administrative Officer, National Oceanic and Atmospheric Administration.

[FR Doc. 2012-12780 Filed 5-24-12; 8:45 am]

BILLING CODE 3510-22-P